DEPARTMENT OF HOMELAND SECURITY

Coast Guard

[Docket No. USCG-2016-0819]

Commercial Fishing Safety Advisory Committee

AGENCY: Coast Guard, Department of Homeland Security.

ACTION: Notice of Federal Advisory Committee meeting.

SUMMARY: The Commercial Fishing Safety Advisory Committee will meet in Savannah, Georgia to discuss various issues relating to safety in the commercial fishing industry. This meeting will be open to the public.

DATES: The Committee will meet on Tuesday, September 27, Wednesday September 28, and Thursday September 29, 2016 from 8 a.m. to 5:30 p.m. However, on Tuesday September 27 from 8 a.m. to 10 a.m., administrative items and issues will be discussed with Committee members only. The public meeting will commence at 10 a.m. The meeting may close early if all business is finished.

ADDRESSES: The Committee will meet at the United States Federal Building located at 124 Barnard Street, Savannah, Georgia, 31401 in Conference Room #1.

If you are planning to attend the meeting, you will be required to pass through a security checkpoint. You will be required to show valid government identification. Please arrive at least 30 minutes before the planned start of the meeting in order to pass through security.

For information on facilities or services for individuals with disabilities or to request special assistance at the meeting, contact the person listed in the FOR FURTHER INFORMATION CONTACT section, as soon as possible.

Instructions: To facilitate public participation, we are inviting public comment on the issues to be considered by the Committee as listed in the “Agenda” section below. Written comments must be submitted no later than September 9, 2016 if you want Committee members to be able to review your comments before the meeting. You must include “Department of Homeland Security” and the docket number USCG-2016-0819. Written comments may be submitted using Federal Electronic Rulemaking Portal at http://www.regulations.gov. For assistance with technical difficulties, contact the individual in the FOR FURTHER INFORMATION CONTACT section of this document. Comments received will be posted without alteration at http://www.regulations.gov, including any personal information provided. You may review a Privacy Act notice regarding the Federal Docket Management System in the March 24, 2005 issue of the Federal Register (70 FR 15086).

Docket Search: For access to the docket to read documents or comments related to this notice, go to http://www.regulations.gov, enter the docket number in the “SEARCH” box, press Enter and then click on the item you wish to view.

Public oral comment periods will be held during the meeting after each presentation and at the end of each day. Speakers are requested to limit their comments to 3 minutes. Please note that the public oral comment periods may end before the prescribed ending time following the last call for comments. Contact Mr. Jack Kemerer as indicated below to register as a speaker.

FOR FURTHER INFORMATION CONTACT: Mr. Jack Kemerer, Alternate Designated Federal Officer for the Commercial Fishing Safety Advisory Committee, Commandant (CG-CVC-3), United States Coast Guard Headquarters, 2703 Martin Luther King Junior Avenue, South East, Mail Stop 7501, Washington, DC 20593-7501; telephone 202-372-1249, facsimile 202-372-8385, electronic mail: jack.a.kemerer@uscg.mil.

SUPPLEMENTARY INFORMATION: Notice of this meeting is in compliance with the Federal Advisory Committee Act, Title 5 U.S.C., Appendix.

The Commercial Fishing Safety Advisory Committee is authorized by Title 46 United States Code Section 4508. The Committee's purpose is to provide advice and recommendations to the United States Coast Guard and the Department of Homeland Security on matters relating to the safe operation of commercial fishing industry vessels.

A copy of available meeting documentation will be posted to the docket, as noted above, and at http://fishsafe.info/ by September 9, 2016. Post-meeting documentation will be posted to the Web site, noted above, within 30 days after the meeting, or as soon as possible. Alternatively, you may contact Mr. Jack Kemerer as noted in the FOR FURTHER INFORMATION CONTACT section above.

Agenda

The Commercial Fishing Safety Advisory Committee will meet to review, discuss and formulate recommendations on topics contained in the agenda.

Day 1

The meeting will include administrative matters, reports, presentations, discussions, as follows:

(1) 8 a.m. to 10 a.m. Committee Members Only. Federal Advisory Committee Act administrative matters to include Commercial Fishing Safety Committee member training.

(2) 10 a.m. Open to the Public. Introductions, swearing-in of new members, election of Chair and Vice-Chair.

(3) Status of Commercial Fishing Vessel Safety Rulemaking projects resulting from requirements set forth in the Coast Guard Authorization Act of 2010 and the Coast Guard and Maritime Transportation Act of 2012.

(4) Coast Guard District Commercial Fishing Vessel Safety Coordinator reports on activities and initiatives.

(5) Updates on safety and survival equipment developments by Committee member and any industry representatives present.

(6) Presentation and discussion on casualties, by regions and fisheries, and an update on safety and risk-reduction-related projects by the National Institute for Occupational Safety and Health.

(7) Presentation and discussion on E-charts, Automatic Identification Systems, and Digital Selective Calling by the United States Coast Guard Navigation Office.

(8) Public Comment Period.

(9) Adjournment of meeting.

Day 2

The meeting will include a review and discussion of the United States Coast Guard Notice of Proposed Rulemaking (46 CFR part 28, Commercial Fishing Vessels—Implementation of 2010 and 2012 Legislation) published in the Federal Register on June 21, 2016 but will primarily be dedicated to Subcommittee/working group sessions, on the following topics:

(1) Development of an Enhanced Oversight Program as outlined in Coast Guard Marine Safety Information Bulletin 11-16 dated July 20, 2016.

(2) Development of guidance to ensure compliance with construction standards for vessels 50-79 feet under Title 46 U.S.C section 4503(c)(2).

(3) Goals and objectives for operator competency training as set forth in Title 46 United States Code section 4502.

(4) Status Reports from Subcommittee Chairs to full Committee.

(5) Public Comment Period.

(6) Adjournment of meeting.

Day 3

The meeting will include Subcommittee/working group discussions, reports and recommendations as follows:

(1) Subcommittee/working groups meet.

(2) Subcommittee/working groups report to full Committee and make recommendations.

(3) There will be a comment period for Commercial Fishing Safety Advisory Committee members and a comment period for the public after each report and discussion. The Committee will review the information presented on any issues, deliberate on any recommendations presented in Subcommittee reports, and formulate recommendations for the Department's consideration.

(4) Future plans and goals for the Committee.

(5) Next Committee meeting, plans and recommended location.

(6) Comments on the meeting from Committee members.

(7) Adjournment of meeting.

Dated: August 31, 2016.
J.F. Williams,
Captain, U.S. Coast Guard, Acting Director of Inspections and Compliance.

[FR Doc. 2016-21479 Filed 9-6-16; 8:45 am]

BILLING CODE 9110-04-P